DEPARTMENT OF ENERGY

Federal Energy Regulatory Commission

Notice of Effectiveness of Exempt Wholesale Generator Status

Lily Solar, LLC | EG21-64-000
Trent River Solar, LLC | EG21-65-000
PGR Lessee P, LLC | EG21-66-000
Aquamarine Westside, LLC | EG21-67-000
Aquamarine Lessee, LLC | EG21-68-000
Westlands Transmission, LLC | EG21-69-000
Western Trail Wind, LLC | EG21-70-000
Helena Wind, LLC | EG21-71-000
Sparta Solar, LLC | EG21-72-000
Old 300 Solar Center, LLC | EG21-73-000
Silverstrand Grid, LLC | EG21-74-000
Ventura Energy Storage, LLC | EG21-75-000
Chevron Power Holdings Inc. | EG21-79-000
BRP Alvin BESS LLC | EG21-80-000
Prospero II Master Tenant, LLC | EG21-81-000
Prospero Solar II, LLC | EG21-82-000
BRP Magnolia BESS LLC | EG21-83-000
BRP Odessa Southwest BESS LLC | EG21-84-000
BRP Angleton BESS LLC | EG21-85-000
BRP Heights BESS LLC | EG21-86-000
BRP Brazoria BESS LLC | EG21-87-000

Take notice that during the month of March 2021, the status of the above-captioned entities as Exempt Wholesale Generators became effective by operation of the Commission's regulations. 18 CFR 366.7(a) (2020).

Dated: April 15, 2021.
Nathaniel J. Davis, Sr.,
Deputy Secretary.

[FR Doc. 2021-08216 Filed 4-20-21; 8:45 am]

BILLING CODE 6717-01-P